DEPARTMENT OF ENERGY

Federal Energy Regulatory Commission

Combined Notice of Filings

September 16, 2008.

Take notice that the Commission has received the following Natural Gas Pipeline Rate and Refund Report filings:

Docket Numbers: RP97-81-051.

Applicants: Kinder Morgan Interstate Gas Transmission LLC.

Description: Kinder Morgan Interstate Gas Transmission LLC submits Sixth Revised Sheet 4G.02 et al. to FERC Gas Tariff, Fourth Revised Volume 1-A.

Filed Date: 09/12/2008.

Accession Number: 20080916-0028.

Comment Date: 5 p.m. Eastern Time on Wednesday, September 24, 2008.

Docket Numbers: RP98-18-034.

Applicants: Iroquois Gas Transmission System, L.P.

Description: Iroquois Gas Transmission System, LP submits Original Sheet 6P et al. to FERC Gas Tariff, First Revised Volume 1, to be effective 11/1/08.

Filed Date: 08/29/2008.

Accession Number: 20080903-0040.

Comment Date: 5 p.m. Eastern Time on Friday, September 19, 2008.

Docket Numbers: RP99-176-165.

Applicants: Natural Gas Pipeline Company of America.

Description: Natural Gas Pipeline Company of America LLC submits First Revised Sheet 33J.01 et al. to FERC Gas Tariff, Seventy Revised Volume 1, to be effective 11/1/08.

Filed Date: 09/12/2008.

Accession Number: 20080916-0026.

Comment Date: 5 p.m. Eastern Time on Wednesday, September 24, 2008.

Docket Numbers: RP99-176-166.

Applicants: Natural Gas Pipeline Company of America.

Description: Natural Gas Pipeline Company of America LLC submits Original Sheet 33O et al. to FERC Gas Tariff, Seventh Revised Volume 1, and effective 11/1/08.

Filed Date: 09/12/2008.

Accession Number: 20080916-0027.

Comment Date: 5 p.m. Eastern Time on Wednesday, September 24, 2008.

Docket Numbers: RP08-617-000.

Applicants: Ozark Gas Transmission, L.L.C.

Description: Ozark Gas Transmission, LLC submits Original Sheets 0-237 to its FERC Gas Tariff, First Revised Volume 1.

Filed Date: 09/11/2008.

Accession Number: 20080912-0082.

Comment Date: 5 p.m. Eastern Time on Tuesday, September 23, 2008.

Docket Numbers: RP08-618-000.

Applicants: Transcontinental Gas Pipeline Corporation.

Description: Transcontinental Gas Pipeline Corporation submits Fifty-Fourth Revised Sheet 27 et al. to its FERC Gas Tariff, Third Revised Volume 1.

Filed Date: 09/10/2008.

Accession Number: 20080912-0079.

Comment Date: 5 p.m. Eastern Time on Monday, September 22, 2008.

Docket Numbers: RP08-619-000.

Applicants: Mojave Pipeline Company.

Description: Mojave Pipeline Co, LLC submits First Revised Sheet 230B et al. to FERC Gas Tariff, Second Revised Volume 1.

Filed Date: 09/10/2008.

Accession Number: 20080912-0080.

Comment Date: 5 p.m. Eastern Time on Monday, September 22, 2008.

Docket Numbers: RP08-620-000.

Applicants: Tres Palacios Gas Storage LLC.

Description: Tres Palacios Gas Storage LLC submits its Request for Extension of Time to Comply with Certain Internet Posting Requirements Relating to Pricing of Storage Services; Request for Expedited Action.

Filed Date: 09/11/2008.

Accession Number: 20080911-5116.

Comment Date: 5 p.m. Eastern Time on Tuesday, September 23, 2008.

Docket Numbers: CP03-342-006.

Applicants: Discovery Gas Transmission LLC.

Description: Discovery Gas Transmission LLC filed an amendment to their abbreviated application for a certificate of public convenience and necessity.

Filed Date: 09/12/2008.

Accession Number: 20080912-4006.

Comment Date: 5 p.m. Eastern Time on Tuesday, September 23, 2008.

Docket Numbers: CP06-76-002.

Applicants: Algonquin Gas Transmission, LLC.

Description: Algonquin Gas Transmission, LLC filed an application for amendment to certificate of public convenience and necessity and request for expedited treatment.

Filed Date: 09/10/2008.

Accession Number: 20080915-0130.

Comment Date: 5 p.m. Eastern Time on Tuesday, September 23, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.
Deputy Secretary.

[FR Doc. E8-22009 Filed 9-19-08; 8:45 am]

BILLING CODE 6717-01-P